DEPARTMENT OF COMMERCE

Bureau of Industry and Security

[Docket No. 250311-0033]

XRIN: 0694-XC115

Certification of Systems for Processing and Collecting Tariffs on Steel and Aluminum Articles Pursuant to the President's February 10, 2025 Proclamations

AGENCY: Bureau of Industry and Security, Department of Commerce.

ACTION: Notice.

SUMMARY: On February 10, 2025, the President issued Proclamations 10895 “Adjusting Imports of Aluminum into The United States” (Aluminum Proclamation), and 10896 “Adjusting Imports of Steel into the United States” (Steel Proclamation), imposing specified rates of duty on imports of aluminum and steel, respectively (collectively, the Proclamations). The Proclamations also required the Secretary of Commerce to certify that adequate systems are in place to fully, efficiently, and expediently process and collect tariff revenue for covered articles. This notice certifies that adequate systems are in place to fully, efficiently, and expediently process and collect tariff revenue for covered articles for both steel and aluminum.

SUPPLEMENTARY INFORMATION:

Background

On February 10, 2025, the President issued Proclamation 10895, “Adjusting Imports of Aluminum into the United States” (90 FR 9087) (Aluminum Proclamation). Clause (9) of the Aluminum Proclamation requires that I, as Secretary of the United States Department of Commerce, certify that adequate systems are in place to fully, efficiently, and expediently process and collect tariff revenue for covered aluminum articles outside of Chapter 76 of the Harmonized Tariff Schedule of the United States (HTS). I so certify for all aluminum articles and derivative aluminum articles in Annex 1 to Proclamation 10895 that are outside of Chapter 76 of the HTS.

On February 10, 2025, the President issued the Proclamation 10896, “Adjusting the Imports of Steel into the United States” (90 FR 9817) (Steel Proclamation). Clause (8) of the Steel Proclamation requires that I, as Secretary of the United States Department of Commerce, certify that adequate systems are in place to fully, efficiently, and expediently process and collect tariff revenue for covered steel articles. I so certify for all steel articles and derivative steel articles in Annex 1 to Proclamation 10896.

Howard W. Lutnick,
Secretary of the United States Department of Commerce.

[FR Doc. 2025-04210 Filed 3-11-25; 4:45 pm]

BILLING CODE 3510-33-P